FEDERAL COMMUNICATIONS COMMISSION

47 CFR Part 90

[WP Docket No. 15-32; DA 15-844]

Creation of Interstitial 12.5 kHz Channels in the 800 MHz Band Between 809-817/854-862 MHz

AGENCY: Federal Communications Commission.

ACTION: Proposed rule.

SUMMARY: The Commission seeks comment on the Land Mobile Communication Counsel's (LMCC) proposed interference contours for interstitial channels, submitted on May 26, 2015, during the reply comments stage in the pending rule making proceeding. This action is necessary because the Commission desires the benefit of public comment on the proposed interference contours which were not advanced by LMCC until the reply stage of the Interstitial NPRM. The intended effect of this action is to give interested parties a sufficient opportunity to comment on LMCC's May 26, 2015 proposed interference contours.

DATES: Submit comments on or before September 8, 2015.

ADDRESSES: See Supplementary Information section for comment addresses.

FOR FURTHER INFORMATION CONTACT: For further information, contact: John A. Evanoff, Attorney-Advisor, Policy and Licensing Division, Public Safety and Homeland Security Bureau, (202) 418-0848 or john.evanoff@fcc.gov or Rodney P. Conway, Engineer, Mobility Division, Wireless Telecommunications Bureau, (202) 418-2904 or rodney.conway@fcc.gov.

SUPPLEMENTARY INFORMATION: This is a summary of the Commission's document, DA 15-844, released on July 24, 2015. The document is available for download at http://fjallfoss.fcc.gov/edocs-public/. The complete text of this document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

In the Notice of Proposed Rulemaking (NPRM) in WP Docket No. 15-32, the Commission initiated a new proceeding to seek comment on proposals to amend the Commission's rules governing 800 MHz Mid-Band operations (809-817 MHz/854-862 MHz) 80 FR 15723 (Mar. 25, 2015). The Commission sought comment on appropriate interference protection criteria for interstitial channels, including a proposal from the Land Mobile Communications Council (LMCC) to amend the rules to adopt new “Interstitial 800 MHz Coordination Procedures.” On May 26, 2015, the LMCC filed its reply comments in the pending rule making proceeding. Therein, LMCC advanced proposed interference contours to apply when stations of various modulation types are operated on interstitial channels (12.5 kHz spacing) adjacent to “standard” (25 kHz spacing) stations operating with various modulation types. In order to develop a full and complete record, the Wireless Telecommunications Bureau and the Public Safety and Homeland Security Bureau issue this public notice seeking comment on LMCC's proposed interference contours. The Commission will accept comments on the LMCC proposed interference contours on or before September 8, 2015.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty). Commenters who file information that they believe should be withheld from public inspection may request confidential treatment pursuant to § 0.459 of the Commission's rules. Commenters should file both their original comments for which they request confidentiality and redacted comments, along with their request for confidential treatment. Commenters should not file proprietary information electronically. See Examination of Current Policy Concerning the Treatment of Confidential Information Submitted to the Commission, Report and Order, 13 FCC Rcd 24816 (1998), Order on Reconsideration, 14 FCC Rcd 20128 (1999). Even if the Commission grants confidential treatment, information that does not fall within a specific exemption pursuant to the Freedom of Information Act (FOIA) must be publicly disclosed pursuant to an appropriate request. See 47 CFR 0.461; 5 U.S.C. 552. We note that the Commission may grant requests for confidential treatment either conditionally or unconditionally. As such, we note that the Commission has the discretion to release information on public interest grounds that does fall within the scope of a FOIA exemption.

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b). In proceedings governed by section 1.49(f) or for which the Commission has made available a method of electronic filing, written ex parte presentations and memoranda summarizing oral ex parte presentations, and all attachments thereto, must be filed through the electronic comment filing system available for that proceeding, and must be filed in their native format (e.g.,doc, .xml, .ppt, searchable .pdf). Participants in this proceeding should familiarize themselves with the Commission's ex parte rules.

Federal Communications Commission.
Michael J. Wilhelm,
Deputy Chief, Policy and Licensing Division, Public Safety and Homeland Security Bureau.

[FR Doc. 2015-19341 Filed 8-5-15; 8:45 am]

BILLING CODE 6712-01-P